DEPARTMENT OF THE INTERIOR

Fish and Wildlife Service

Endangered and Threatened Wildlife and Plants; 5-Year Review of Mt. Graham Red Squirrel and Little Colorado Spinedace

AGENCY: Fish and Wildlife Service, Interior.

ACTION: Notice of review.

SUMMARY: The U.S. Fish and Wildlife Service (Service) announces a 5-year review of the Mt. Graham red squirrel (Tamiasciurus hudsonicus grahamensis) and the Little Colorado spinedace (Lepidomeda vittata) under 4(c)(2)(A) of the Endangered Species Act of 1973 (Act). The purpose of reviews conducted under this section of the Act is to ensure that the classification of species as threatened or endangered on the List of Endangered and Threatened Wildlife and Plants (50 CFR 17.12) is accurate. The 5-year review is an assessment of the best scientific and commercial data available at the time of the review.

DATES: To allow adequate time to conduct this review, information submitted for our consideration must be received on or before April 11, 2006. However, we will continue to accept information about any listed species at any time.

ADDRESSES: Information submitted on these species should be sent to the U.S. Fish and Wildlife Service at the following address. Information received in response to this notice of review will be available for public inspection by appointment, during normal business hours, at the same addresses.

Information regarding the Mt. Graham red squirrel and Little Colorado spinedace should be sent to the Field Supervisor, Attention 5-year Review, U.S. Fish and Wildlife Service, Arizona Ecological Services Office, 2321 West Royal Palm Road, Suite 103, Phoenix, AZ 85021.

FOR FURTHER INFORMATION CONTACT: For the Mt. Graham red squirrel, contact Thetis Gamberg at the Arizona Ecological Services Tucson Sub-office, 201 North Bonita, Suite 141, Tucson, AZ 85745, 520-670-6150 x 231, thetis_gamberg@fws.gov. For the Little Colorado spinedace, contact Shaula Hedwall at the Arizona Ecological Services Flagstaff Sub-office, 323 North Leroux, Suite 101, Flagstaff, AZ 86001, 928-226-0614 x 103, shaula_hedwall@fws.gov.

SUPPLEMENTARY INFORMATION:

Why Is a 5-Year Review Conducted?

Section 4(c)(2)(A) of the Act (16 U.S.C. 1531 et seq.) requires that we conduct a review of listed species at least once every 5 years. We are then, under section 4(c)(2)(B) and the provisions of subsections (a) and (b), to determine, on the basis of such a review, whether or not any species should be removed from the List of Endangered and Threatened Wildlife and Plants (delisted), or reclassified from endangered to threatened (downlisted), or from threatened to endangered (uplisted). The 5-year review is an assessment of the best scientific and commercial data available at the time of the review. Therefore, we are requesting submission of any new information (best scientific and commercial data) on the following species since their original listings as either endangered (Mt. Graham red squirrel) or threatened (Little Colorado spinedace). If the present classification of either of these species is not consistent with the best scientific and commercial information available, the Service will recommend whether or not a change is warranted in the Federal classification of the species. Any change in Federal classification would require a separate final rule-making process.

Our regulations at 50 CFR 424.21 require that we publish a notice in the Federal Register announcing those species currently under active review. This notice announces our active review of the Mt. Graham red squirrel and Little Colorado spinedace.

What Information Is Considered in the Review?

A 5-year review considers all new information available at the time of the review. These reviews will consider the best scientific and commercial data that have become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List of Endangered and Threatened Wildlife and Plants, and improved analytical methods.

Specific Information Requested for the Mt. Graham Red Squirrel

We specifically request information regarding the species' life history, habitat requirements, and distribution. We also request information on threats, including predation, competition, and habitat loss. We further request information on designated critical habitat.

Specific Information Requested for the Little Colorado Spinedace

We specifically request information regarding the current distribution of populations and evaluation of the degree of habitat protection for each population, and information regarding management plans and techniques for improving and maintaining spinedace habitat. We also are particularly interested in recent information regarding conservation measures that have been implemented to benefit the species.

How Are the Mt. Graham Red Squirrel and Little Colorado Spinedace Currently Listed?

The List of Endangered and Threatened Wildlife and Plants (List) is found in 50 CFR 17.11 (wildlife) and 17.12 (plants). Amendments to the List through final rules are published in the Federal Register. The List is also available on our Internet site at http://endangered.fws.gov/wildlife.html#Species. In Table 1 below, we provide a summary of the listing information for the species under active review.

Table 1.—Summary of the Listing Information for the Mt. Graham Red Squirrel and Little Colorado Spinedace
Common name | Scientific name | Status | Where listed | Final listing rule
Mt. Graham red squirrel | Tamiasciurus hudsonicus grahamensis | Endangered | U.S.A. (Arizona, California) | 51 FR 10842 (31-MAR-1986).
Little Colorado spinedace | Lepidomeda vittata | Threatened | U.S.A. (Arizona) | 52 FR 35054 (16-SEPT-1987).

Definitions Related to This Notice

The following definitions are provided to assist those persons who contemplate submitting information regarding the species being reviewed:

A. Species includes any species or subspecies of fish, wildlife, or plant, and any distinct population segment of any species of vertebrate, which interbreeds when mature.

B. Endangered means any species that is in danger of extinction throughout all or a significant portion of its range.

C. Threatened means any species that is likely to become an endangered species within the foreseeable future throughout all or a significant portion of its range.

How Do We Determine Whether a Species Is Endangered or Threatened?

Section 4(a)(1) of the Act establishes that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Section 4(a)(1) of the Act requires that our determination be made on the basis of the best scientific and commercial data available.

What Could Happen as a Result of This Review?

If we find that there is new information concerning Mt. Graham red squirrel or Little Colorado spinedace indicating a change in classification may be warranted, we may propose a new rule that could do one of the following: (a) Reclassify the species from endangered to threatened (downlist); (b) reclassify the species from threatened to endangered (uplist); or (c) remove the species from the List. If we determine that a change in classification is not warranted, then these species will remain on the List under their current status.

Public Solicitation of New Information

We request any new information concerning the status of Mt. Graham red squirrel and Little Colorado spinedace. See “What information is considered in the review?” heading for specific criteria. Information submitted should be supported by documentation such as maps, bibliographic references, methods used to gather and analyze the data, and/or copies of any pertinent publications, reports, or letters by knowledgeable sources. Our practice is to make comments, including names and home addresses of respondents, available for public review. Individual respondents may request that we withhold their home addresses from the supporting record, which we will honor to the extent allowable by law. There also may be circumstances in which we may withhold from the supporting record a respondent's identity, as allowable by law. If you wish us to withhold your name and/or address, you must state this prominently at the beginning of your comment. We will not consider anonymous comments, however. We will make all submissions from organizations or businesses, and from individuals identifying themselves as representatives or officials of organizations or businesses, available for public inspection in their entirety.

Authority

This document is published under the authority of the Endangered Species Act (16 U.S.C. 1531 et seq.).

Dated: November 1, 2005.
Larry G. Bell,
Acting Regional Director, Region 2, Fish and Wildlife Service.

[FR Doc. E6-139 Filed 1-10-06; 8:45 am]

BILLING CODE 4310-55-P